DEPARTMENT OF TRANSPORTATION

Federal Aviation Administration

14 CFR Part 39

[Docket No. FAA-2022-0458; Project Identifier AD-2021-00633-T]

RIN 2120-AA64

Airworthiness Directives; The Boeing Company Airplanes

AGENCY: Federal Aviation Administration (FAA), DOT.

ACTION: Notice of proposed rulemaking (NPRM).

SUMMARY: The FAA proposes to adopt a new airworthiness directive (AD) for all The Boeing Company Model 767 airplanes. This proposed AD was prompted by reports of inoperative manual and alternate horizontal stabilizer trim switches. This proposed AD would require repetitive inspections for immersion of each limit switch and position transmitter module (LSPTM) and of the LSPTM electrical wiring, repetitive inspections for blockage of the drain holes and cleaning of each drain hole, repetitive inspections for loose or cracked leveling compound, and applicable on-condition actions. For certain airplanes, this proposed AD would also require installing two new drain holes, performing repetitive inspections for blockage of the drain holes and cleaning each drain hole, and applicable on-condition actions. The FAA is proposing this AD to address the unsafe condition on these products.

DATES: The FAA must receive comments on this proposed AD by June 9, 2022.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Boeing Commercial Airplanes, Attention: Contractual & Data Services (C&DS), 2600 Westminster Blvd., MC 110-SK57, Seal Beach, CA 90740-5600; telephone 562-797-1717; internet https://www.myboeingfleet.com. You may view this referenced service information at the FAA, Airworthiness Products Section, Operational Safety Branch, 2200 South 216th St., Des Moines, WA. For information on the availability of this material at the FAA, call 206-231-3195. It is also available at https://www.regulations.gov by searching for and locating Docket No. FAA-2022-0458.

Examining the AD Docket

You may examine the AD docket at https://www.regulations.gov by searching for and locating Docket No. FAA-2022-0458; or in person at Docket Operations between 9 a.m. and 5 p.m., Monday through Friday, except Federal holidays. The AD docket contains this NPRM, any comments received, and other information. The street address for Docket Operations is listed above.

FOR FURTHER INFORMATION CONTACT: Hassan Ibrahim, Aerospace Engineer, Systems and Equipment Section, FAA, Seattle ACO Branch, 2200 South 216th St., Des Moines, WA 98198; phone and fax: 206-231-3653; email: hassan.m.ibrahim@faa.gov.

SUPPLEMENTARY INFORMATION:

Comments Invited

The FAA invites you to send any written relevant data, views, or arguments about this proposal. Send your comments to an address listed under ADDRESSES. Include “Docket No. FAA-2022-0458; Project Identifier AD-2021-00633-T” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Hassan Ibrahim, Aerospace Engineer, Systems and Equipment Section, FAA, Seattle ACO Branch, 2200 South 216th St., Des Moines, WA 98198; phone and fax: 206-231-3653; email: hassan.m.ibrahim@faa.gov. Any commentary that the FAA receives which is not specifically designated as CBI will be placed in the public docket for this rulemaking.

Background

This proposed AD was prompted by reports of inoperative manual and alternate horizontal stabilizer trim switches on the Boeing Model 767. An investigation found that drain holes in the area aft of body station (STA) 1725.5 were blocked and caused water to accumulate and eventually submerge the three LSPTMs, which affected their function. Loose pieces of leveling compound in the area were found detached and blocking the drain holes. Collected water or ice could damage the LSPTMs and cause stabilizer trim position sensors to generate corrupt or erroneous signals to the flight crew. This condition, if not addressed, could result in misleading or confusing flight deck indications, a high speed overrun during takeoff, or a low altitude stall immediately after takeoff.

FAA's Determination

The FAA is issuing this NPRM after determining that the unsafe condition described previously is likely to exist or develop on other products of the same type design.

Related Service Information Under 1 CFR Part 51

The FAA reviewed Boeing Alert Requirements Bulletin 767-27A0240 RB, dated January 19, 2021, which specifies procedures for repetitive general visual inspections (GVIs) for immersion in water or ice of each LSPTM and of the LSPTM electrical wiring, repetitive GVIs for blockage of the three drain holes and cleaning of each drain hole, repetitive GVIs for loose or cracked leveling compound, and applicable on-condition actions. On-condition actions include removing any water or ice, doing a detailed inspection for damage (corrosion or water damage) of any immersed LSPTM or LSPTM electrical wiring, installing a serviceable LSPTM, repairing or replacing any damaged LSPTM electrical wiring, clearing any drain hole blockages, and repairing any loose or cracked leveling compound.

The FAA also reviewed Boeing Alert Requirements Bulletin 767-27A0243 RB, dated May 28, 2021. This service information specifies procedures for installing two new drain holes, performing repetitive GVIs for blockage of the five drain holes and cleaning each drain hole, and applicable on-condition actions. On-condition actions include clearing any drain hole blockages.

This service information is reasonably available because the interested parties have access to it through their normal course of business or by the means identified in ADDRESSES.

Proposed AD Requirements in This NPRM

This proposed AD would require, for Model 767-200, -300, -300F, and -400ER airplanes, accomplishing the actions specified in the service information already described. For the airplanes identified in Boeing Alert Requirements Bulletin 767-27A0243 RB, dated May 28, 2021, this proposed AD would require the concurrent accomplishment of the actions in Boeing Alert Requirements Bulletin 767-27A0240 RB, dated January 19, 2021. For Model 767-2C airplanes, this proposed AD would require inspections and applicable on-condition actions accomplished in accordance with a method approved by the Manager, Seattle ACO Branch, FAA. For information on the procedures and compliance times, see this service information at https://www.regulations.gov by searching for and locating Docket No. FAA-2022-0458.

Costs of Compliance

The FAA estimates that this AD, if adopted as proposed, would affect 613 airplanes of U.S. registry. The FAA estimates the following costs to comply with this proposed AD:

Estimated Costs
Action | Labor cost | Parts cost | Cost per product | Cost on U.S. operators
Drill drain holes | 5 work-hours × $85 per hour = $425 | $2,770 | $3,195 | Up to $1,958,535.
Repetitive GVI and cleaning of 5 drain holes | 2 work-hours × $85 per hour = $170 per inspection cycle | 0 | 170 per inspection cycle | Up to $104,210 per inspection cycle.
Repetitive GVI of LSPTM | 1 work-hour × $85 per hour = $85 per inspection cycle | 0 | 85 per inspection cycle | 52,105 per inspection cycle.
Repetitive GVI of LSPTM electrical wiring | 1 work-hour × $85 per hour = $85 per inspection cycle | 0 | 85 per inspection cycle | 52,105 per inspection cycle.
Repetitive GVI and cleaning of 3 drain holes | 1 work-hour × $85 per hour = $85 per inspection cycle | 0 | 85 per inspection cycle | 52,105 per inspection cycle.
Repetitive GVI of leveling compound | 1 work-hour × $85 per hour = $85 per inspection cycle | 0 | 85 per inspection cycle | 52,105 per inspection cycle.

The FAA estimates the following costs to do any necessary inspections that would be required based on the results of the proposed inspection. The agency has no way of determining the number of aircraft that might need these inspections:

On-Condition Costs
Action | Labor cost | Parts cost | Cost per product
Detailed inspection of LSPTM or LSPTM electrical wiring | 1 work-hour × $85 per hour = $85 | $0 | $85

The FAA has received no definitive data on which to base the cost estimates for the other on-condition actions specified in this proposed AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

The Boeing Company: Docket No. FAA-2022-0458; Project Identifier AD-2021-00633-T.

(a) Comments Due Date

The FAA must receive comments on this airworthiness directive (AD) by June 9, 2022.

(b) Affected ADs

None.

(c) Applicability

This AD applies to all The Boeing Company Model 767-200, -300, -300F, -400ER, and -2C series airplanes, certificated in any category.

(d) Subject

Air Transport Association (ATA) of America Code 27, Flight controls;

(e) Unsafe Condition

This AD was prompted by reports of inoperative manual and alternate horizontal stabilizer trim switches; an investigation found that certain drain holes were blocked, causing water and ice to collect and subsequently cover the limit switch and position transmitter modules (LSPTMs), which affected their function. The FAA is issuing this AD to address collected water or ice that could damage the LSPTMs and cause stabilizer trim position sensors to generate corrupt or erroneous signals to the flight crew. This condition, if not addressed, could result in misleading or confusing flight deck indications, a high speed overrun during takeoff, or a low altitude stall immediately after takeoff.

(f) Compliance

Comply with this AD within the compliance times specified, unless already done.

(g) Required Actions

(1) For all Model 767-200, -300, -300F, and -400ER airplanes: Except as specified by paragraph (h) of this AD, at the applicable times specified in the “Compliance” paragraph of Boeing Alert Requirements Bulletin 767-27A0240 RB, dated January 19, 2021, do all applicable actions identified in, and in accordance with, the Accomplishment Instructions of Boeing Alert Requirements Bulletin 767-27A0240 RB, dated January 19, 2021.

Note 1 to paragraph (g)(1): Guidance for accomplishing the actions required by this AD can be found in Boeing Alert Service Bulletin 767-27A0240, dated January 19, 2021, which is referred to in Boeing Alert Requirements Bulletin 767-27A0240 RB, dated January 19, 2021.

(2) For Model 767-200, -300, -300F, and -400ER airplanes, as identified in Boeing Alert Requirements Bulletin 767-27A0243, dated May 28, 2021: Except as specified by paragraph (h) of this AD, at the applicable times specified in the “Compliance” paragraph of Boeing Alert Requirements Bulletin 767-27A0243, dated May 28, 2021, do all applicable actions identified in, and in accordance with, the Accomplishment Instructions of Boeing Alert Requirements Bulletin 767-27A0243, dated May 28, 2021. Accomplishing the installation of two new drain holes required by this paragraph terminates the repetitive inspections of the drain holes required by paragraph (g)(1) of this AD.

Note 2 to paragraph (g)(2): Guidance for accomplishing the actions required by this AD can be found in Boeing Alert Service Bulletin 767-27A0243, dated May 28, 2021, which is referred to in Boeing Alert Requirements Bulletin 767-27A0243, dated May 28, 2021.

(3) For Model 767-2C airplanes: Within 90 days after the effective date of this AD, inspect the LSPTMs, LSPTM electrical wiring, drain holes, and leveling compound; install two new drain holes as applicable; and do applicable on-condition actions in accordance with a method approved by the Manager, Seattle ACO Branch, FAA.

(h) Exceptions to Service Information Specifications

(1) Where Boeing Alert Requirements Bulletin 767-27A0243 RB, dated May 28, 2021, uses the phrase “the original issue date of the Requirements Bulletin 767-27A0243 RB,” this AD requires using “the effective date of this AD.”

(2) Where Boeing Alert Requirements Bulletin 767-27A0240 RB, dated January 19, 2021, uses the phrase “the original issue date of the Requirements Bulletin 767-27A0240 RB,” this AD requires using “the effective date of this AD.”

(3) Where Boeing Alert Requirements Bulletin 767-27A0243 RB, dated May 28, 2021, specifies a compliance time for Action 1, for this AD do Action 1 as specified in paragraph (g)(1) of this AD.

(i) Alternative Methods of Compliance (AMOCs)

(1) The Manager, Seattle ACO Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (j)(1) of this AD. Information may be emailed to: 9-ANM-Seattle-ACO-AMOC-Requests@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, Seattle ACO Branch, FAA, to make those findings. To be approved, the repair method, modification deviation, or alteration deviation must meet the certification basis of the airplane, and the approval must specifically refer to this AD.

(j) Related Information

(1) For more information about this AD, contact Hassan Ibrahim, Aerospace Engineer, Systems and Equipment Section, FAA, Seattle ACO Branch, 2200 South 216th St., Des Moines, WA 98198; phone and fax: 206-231-3653; email: hassan.m.ibrahim@faa.gov.

(2) For service information identified in this AD, contact Boeing Commercial Airplanes, Attention: Contractual & Data Services (C&DS), 2600 Westminster Blvd., MC 110-SK57, Seal Beach, CA 90740-5600; telephone 562-797-1717; internet https://www.myboeingfleet.com. You may view this referenced service information at the FAA, Airworthiness Products Section, Operational Safety Branch, 2200 South 216th St., Des Moines, WA. For information on the availability of this material at the FAA, call 206-231-3195.

Issued on April 7, 2022.
Lance T. Gant,
Director, Compliance & Airworthiness Division, Aircraft Certification Service.

[FR Doc. 2022-08658 Filed 4-22-22; 8:45 am]

BILLING CODE 4910-13-P